CONSUMER PRODUCT SAFETY COMMISSION

Sunshine Act Meeting

FEDERAL REGISTER CITATION OF PREVIOUS ANNOUNCEMENT: Vol. 76, No. 136, Friday, July 15, 2011, page 41769.

PREVIOUSLY ANNOUNCED TIME AND DATE OF MEETING: Open to Public—2-3 p.m.

CHANGES TO MEETINGS: For Meeting Open to the Public, 10 a.m.-12 p.m., Matters to be Discussed:

(1) Hearing—Agenda and Priorities for Fiscal Year 2013 Budget—10-11 a.m.;

(2) Decisional Matter: ASTM F963 Notice of Requirements—11 a.m.-12 p.m.

For a recorded message containing the latest agenda information, call (301) 504-7948.

CONTACT PERSON FOR ADDITIONAL INFORMATION: Todd A. Stevenson, Office of the Secretary, 4330 East West Highway, Bethesda, MD 20814, (301) 504-7923.

Dated: July 19, 2011.
Todd A. Stevenson,
Secretary.

[FR Doc. 2011-18535 Filed 7-19-11; 4:15 pm]

BILLING CODE 6355-01-P